FEDERAL TRADE COMMISSION

[File No. 112 3155]

CarePatrol, Inc.; Analysis of Proposed Consent Order To Aid Public Comment

Correction

In notice document 2012-23412 appearing on pages 58837-58838 in the issue of Monday, September 24, 2012, make the following correction:

On page 58837, in the third column, in the eighth line, “Write ACarePatrol” should read “Write “CarePatrol”.

[FR Doc. C1-2012-23412 Filed 9-28-12; 8:45 am]

BILLING CODE 1505-01-D